DEPARTMENT OF COMMERCE

Foreign-Trade Zones Board

[S-138-2014]

Foreign-Trade Zone 245—Decatur, Illinois; Application for Subzone; Schumacher Electric Corporation; Hoopeston, Illinois

An application has been submitted to the Foreign-Trade Zones Board (the Board) by the Economic Development Corporation of Decatur and Macon County, grantee of FTZ 245, requesting subzone status for the facility of Schumacher Electric Corporation (Schumacher), located in Hoopeston, Illinois. The application was submitted pursuant to the provisions of the Foreign-Trade Zones Act, as amended (19 U.S.C. 81a-81u), and the regulations of the Board (15 CFR part 400). It was formally docketed on November 12, 2014.

The proposed subzone (4.8 acres) is located at 1025 E. Thompson Avenue, Hoopeston, Vermilion County. No authorization for production activity has been requested at this time. The proposed subzone would be subject to the existing activation limit of FTZ 245.

In accordance with the Board's regulations, Elizabeth Whiteman of the FTZ Staff is designated examiner to review the application and make recommendations to the Executive Secretary.

Public comment is invited from interested parties. Submissions shall be addressed to the Board's Executive Secretary at the address below. The closing period for their receipt is December 29, 2014. Rebuttal comments in response to material submitted during the foregoing period may be submitted during the subsequent 15-day period to January 12, 2015.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

FOR FURTHER INFORMATION CONTACT: Elizabeth Whiteman at Elizabeth.Whiteman@trade.gov or (202) 482-0473.

Dated: November 12, 2014.
Elizabeth Whiteman,
Acting Executive Secretary.

[FR Doc. 2014-27196 Filed 11-14-14; 8:45 am]

BILLING CODE 3510-DS-P